DEPARTMENT OF COMMERCE

National Oceanic and Atmospheric Administration

RIN 0648-XG443

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Tuesday, September 18, 2018 at 1:30 p.m.

ADDRESSES: Meeting address: The meeting will be held at the Four Points by Sheraton, One Audubon Road, Wakefield, MA 01880; phone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will discuss Framework Adjustment 58: Specifications/Management Measures specifically draft alternatives and analysis including: (1) Rebuilding plan options for several groundfish stocks, (2) 2019 total allowable catches for U.S./Canada stocks of Eastern Georges Bank (GB) cod, Eastern GB haddock, and GB yellowtail flounder, (3) minimum size exemptions for vessels fishing in Northwest Atlantic Fisheries Organization waters, and (4) guidance on sector overages. They also plan to discuss Amendment 23, Groundfish Monitoring and receive an update on the development of the draft alternatives and analysis. The committee will review the Council's Groundfish Priorities for 2019 and discuss a draft list of possible groundfish priorities for 2019 and make recommendations to the Council. Review Groundfish Plan Development Team, Groundfish Advisory Panel, and Transboundary Management Guidance Committee recommendations and make recommendations to the Council. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency. This meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the date.

Authority: 16 U.S.C. 1801 et seq.

Dated: August 28, 2018.
Tracey L. Thompson,
Acting Deputy Director, Office of Sustainable Fisheries, National Marine Fisheries Service.

[FR Doc. 2018-18976 Filed 8-30-18; 8:45 am]

BILLING CODE 3510-22-P